DEPARTMENT OF THE INTERIOR

Fish and Wildlife Service

[FWS-HQ-FAC-2021-N173; FF09F42300 FVWF97920900000 XXX]

Sport Fishing and Boating Partnership Council; Public Meeting

AGENCY: Fish and Wildlife Service, Interior.

ACTION: Notice of teleconference/web meeting.

SUMMARY: The U.S. Fish and Wildlife Service gives notice of a teleconference/web meeting of the Sport Fishing and Boating Partnership Council (Council), in accordance with the Federal Advisory Committee Act.

DATES:

Teleconference/Web Meeting: The Council will meet via teleconference and broadcast over the internet on Wednesday, August 4, 2021, from 12 p.m. to 4 p.m. Eastern Time, and Thursday, August 5, 2021, from 12 p.m. to 3 p.m. Eastern Time. The meeting is open to the public, except for on August 4, between 12 p.m. and 12:40 p.m., when members will attend an ethics training session.

Registration: Registration is required. The deadline for registration is August 2, 2021.

Accessibility: The deadline for accessibility accommodation requests is July 30, 2021. Please see Accessibility Information, below.

ADDRESSES: The meeting will be held via teleconference and broadcast over the internet. To register and receive the web address and telephone number for participation, contact the Designated Federal Officer (see FOR FURTHER INFORMATION CONTACT).

FOR FURTHER INFORMATION CONTACT: Tom McCann, Designated Federal Officer, by email at thomas_mccann@fws.gov, by telephone at 703-358-2056, by telecommunication device for the deaf (TDD) via the Federal Relay Service at 800-877-8339, or by U.S. mail at the U.S. Fish and Wildlife Service, MS:3C016A-FAC, 5275 Leesburg Pike, Falls Church, Virginia 22041-3803.

SUPPLEMENTARY INFORMATION: Established in 1993, the Council advises the Secretary of the Interior, through the Director of the U.S. Fish and Wildlife Service, on aquatic conservation endeavors that benefit recreational fishery resources and recreational boating and that encourage partnerships among industry, the public, and government.

Meeting Agenda

• Administrative business/member ethics training

• Program updates from:

○ U.S. Fish and Wildlife Service (USFWS) Fish and Aquatic Conservation

○ USFWS Wildlife and Sport Fish Restoration

○ National Oceanic and Atmospheric Administration

○ Recreational Boating and Fishing Foundation

Discuss programmatic assessment

Review Council appointments for Board of Directors

• COVID-19 roundtable to discuss impacts on fishing and boating industries and leveraging new enthusiasts

• Other Council business

○ Review subcommittee structure

○ Discuss agenda items for next meeting

• Public comment and adjourn

The final agenda and other related meeting information will be posted on the Council's website, https://www.fws.gov/sfbpc/.

Public Input

If you wish to listen to the meeting by telephone, listen and view through the internet, provide oral public comment by phone, or provide a written comment for the Council to consider, contact the Designated Federal Officer (see FOR FURTHER INFORMATION CONTACT). Written comments should be received no later than Monday, August 2, 2021, to be considered by the Council during the meeting.

Depending on the number of people who want to comment and the time available, the amount of time for individual oral comments may be limited. Interested parties should contact the Designated Federal Officer, in writing (see FOR FURTHER INFORMATION CONTACT), for placement on the public speaker list for this teleconference. Registered speakers who wish to expand upon their oral statements, or those who had wished to speak but could not be accommodated on the agenda, may submit written statements to the Designated Federal Officer up to 30 days following the meeting. Requests to address the Council during the teleconference will be accommodated in the order the requests are received.

Accessibility Information

Requests for sign language interpretation services, closed captioning, or other accessibility accommodations should be directed to the Designated Federal Officer (see FOR FURTHER INFORMATION CONTACT) by close of business Friday, July 30, 2021.

Public Disclosure

Before including your address, phone number, email address, or other personal identifying information in your comment, you should be aware that your entire comment—including your personal identifying information—may be made publicly available at any time. While you can ask us in your comment to withhold your personal identifying information from public review, we cannot guarantee that we will be able to do so.

Authority: Federal Advisory Committee Act (5 U.S.C. Appendix).

David A. Miko,
Acting Assistant Director, Fish and Aquatic Conservation Program, U.S. Fish and Wildlife Service.

[FR Doc. 2021-15200 Filed 7-16-21; 8:45 am]

BILLING CODE 4333-15-P